OFFICE OF PERSONNEL MANAGEMENT

Submission for Review: OMB Control No. 3206-NEW

AGENCY: Office of Personnel Management.

ACTION: 30-Day notice and request for comments.

SUMMARY: The Office of Personnel Management (OPM) offers the general public and other Federal agencies the opportunity to comment on the following new information collection request (ICR): 3206-NEW, USA Hire Assessment Satisfaction Survey, Form USAH-1.

DATES: Comments are encouraged and will be accepted until October 13, 2023.

ADDRESSES: Written comments and recommendations for the proposed information collection should be sent within 30 days of publication of this notice to www.reginfo.gov/public/do/PRAMain. Find this particular information collection by selecting, “Currently under 30-day Review—Open for Public Comments” or by using the search function. Interested persons may also submit written comments on the proposed information collection to the Office of Information and Regulatory Affairs, Office of Management Budget, 725 17th Street NW, Washington, DC 20503, Attention: Desk Officer for the Office of Personnel Management or sent via electronic mail to oira_submission@omb.eop.gov or faxed to (202) 395-6974.

FOR FURTHER INFORMATION CONTACT: A copy of this information collection request, with applicable supporting documentation, may be obtained by contacting jeffrey.cain@opm.gov or 202-897-8829. Please put “3206_New” in the subject line of the email.

SUPPLEMENTARY INFORMATION: As required by the Paperwork Reduction Act of 1995 (Pub. L. 104-13), as amended (44 U.S.C. chapter 35), OPM is soliciting comments for this collection. The ICR 3206-NEW Assessment Satisfaction Survey, Form USAH-1, administered through USA Hire, is the Federal Government's centralized source for collecting applicant feedback on the USA Hire online assessment process. This effort will enable USA Hire to implement improvements on an ongoing basis to the assessment process for applicants and agency stakeholders. This new information collection is authorized under 5 U.S.C. 1104, 1302, 3301, 3304, 3320, 3361, 3393, and 3394.

This information collection was previously published in the Federal Register on May 2, 2023, at 88 FR 27929 allowing for a 60-day public comment period. No comments were received for this information collection. The purpose of this notice is to allow an additional 30 days for public comments. As this is a new collection, OPM invites comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: HR Solutions/Federal Staffing Center, Office of Personnel Management.

Title: USA Hire Assessment Satisfaction Survey.

OMB Number: 3206-NEW.

Frequency: Annually.

Affected Public: Individuals.

Number of Respondents: 200,000.

Estimated Time per Respondent: 1 Minute.

Total Burden Hours: 3,400 hours.

Office of Personnel Management.
Kayyonne Marston,
Federal Register Liaison.

[FR Doc. 2023-19737 Filed 9-12-23; 8:45 am]

BILLING CODE 6325-43-P